TENNESSEE VALLEY AUTHORITY

Paperwork Reduction Act of 1995, as Amended by Pub. L. 104-13; Submission for OMB Review; Comment Request

AGENCY: Tennessee Valley Authority.

ACTION: Submission for OMB Review; comment request.

SUMMARY: The proposed information collections described below will be submitted to the Office of Management and Budget (OMB) for review, as required by the Paperwork Reduction Act of 1995 (44 U.S.C Chapter 35, as amended). The Tennessee Valley Authority is soliciting public comments on these proposed collections as provided by 5 CFR 1320.8(d)(1). Requests for information, including copies of the information collection proposed and supporting documentation, should be directed to the Agency Clearance Officer: Mark R. Winter, Tennessee Valley Authority, 1101 Market Street (EB 5B), Chattanooga, Tennessee 37402-2801; (423) 751-6004.

Comments should be sent to OMB Office of Information & Regulatory Affairs, Attention: Desk Officer for Tennessee Valley Authority, no later than June 5, 2008.

SUPPLEMENTARY INFORMATION: Type of Request: Regular Submission.

Title of Information Collection: TVA Valley Relations Stakeholder Survey.

Frequency of Use: On occasion.

Small Business or Organizations Affected: Yes.

Estimated Number of Annual Responses: 600.

Estimated Total Annual Burden Hours: 100.

Estimated Average Burden Hours Per Response: 10 minutes.

Need For and Use of Information: This information collection will obtain feedback from key stakeholders. The information collected will help TVA evaluate its performance and identify areas of effectiveness and opportunities for future improvement.

Type of Request: Regular submission; reinstatement without change of a previously approved collection (OMB control number 3316-0016).

Title of Information Collection: Farmer Questionnaire—Vicinity of Nuclear Power Plants.

Frequency of Use: On occasion.

Type of Affected Public: Individuals or households, and farms.

Small Businesses or Organizations Affected: No.

Federal Budget Functional Category Code: 271.

Estimated Number of Annual Responses: 300.

Estimated Total Annual Burden Hours: 150.

Estimated Average Burden Hours Per Response: .5.

Need For and Use of Information: This survey is used to locate, for monitoring purposes, rural residents, home gardens, and milk animals within a five mile radius of a nuclear power plant. The monitoring program is a mandatory requirement of the Nuclear Regulatory Commission set out in the technical specifications when the plants were licensed.

Steven A. Anderson,
Senior Manager, IT Planning and Governance, Information Services.

[FR Doc. E8-9942 Filed 5-5-08; 8:45 am]

BILLING CODE 8120-08-P